DEPARTMENT OF ENERGY

Federal Energy Regulatory Commission

[Docket No. RP04-341-000]

Algonquin Gas Transmission Company; Notice of Tariff Filing

June 25, 2004.

Take notice that on June 23, 2004, Algonquin Gas Transmission Company (Algonquin) tendered for filing as part of its FERC Gas Tariff, Fourth Revised Volume No. 1, the revised tariff sheets identified in Appendix A to the filing, to be effective on November 24, 2003, March 1, 2004, and April 1, 2004.

Algonquin states that the purpose of this filing is to modify certain tariff sheets in its currently effective tariff to reflect provisions previously accepted by Commission orders in various Algonquin tariff proceedings.

Algonquin states that copies of its filing have been served upon all affected customers of Algonquin and interested State commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1454 Filed 6-30-04; 8:45 am]

BILLING CODE 6717-01-P